DEPARTMENT OF THE INTERIOR

Fish and Wildlife Service

Notice of Availability of the Draft Revised Recovery Plan for the Rio Grande Silvery Minnow (Hybognathus amarus)

AGENCY: Fish and Wildlife Service, Interior.

ACTION: Notice of document availability.

SUMMARY: The U.S. Fish and Wildlife Service (Service) announces the availability for public review of the draft revised Recovery Plan for the Rio Grande Silvery Minnow (Hybognathus amarus). The Rio Grande silvery minnow currently inhabits the Rio Grande in New Mexico. The Service solicits review and comment from the public on this draft revised Recovery Plan.

DATES: The comment period for this draft revised Recovery Plan (Recovery Plan) closes April 18, 2007. Comments on the Recovery Plan must be received by the closing date to ensure consideration.

ADDRESSES: Persons wishing to review the Recovery Plan can obtain a paper or CD copy from the Rio Grande Silvery Minnow Coordinator, Southwest Regional Office, U.S. Fish and Wildlife Service, P.O. Box 1306, Albuquerque, New Mexico 87103; telephone 505/248-6920, facsimile 505/248-6788, e-mail: Jennifer_Parody@fws.gov. The Recovery Plan may also be obtained from the Internet at http://www.fws.gov/endangered by selecting “Species Search” from the left-side menu bar and entering the species” name in the “Search Species” text box. If you wish to comment on the Recovery Plan, you may submit your comments and materials to the Rio Grande Silvery Minnow Coordinator.

FOR FURTHER INFORMATION CONTACT: Jennifer Parody, Rio Grande Silvery Minnow Coordinator, at the Albuquerque address above.

SUPPLEMENTARY INFORMATION:

Background

Restoring an endangered or threatened animal or plant to the point where it is again a secure, self-sustaining member of its ecosystem is a primary goal of the Service's endangered species program. To help guide the recovery effort, the Service is working to prepare recovery plans for most of the listed species native to the United States. Recovery plans describe actions considered necessary for conservation of species, establish criteria for downlisting or delisting them, and estimate time and cost for implementing the recovery measures needed.

The Endangered Species Act of 1973 (Act), as amended (16 U.S. C. 1531 et seq.) requires the development of recovery plans for listed species unless such a Plan would not promote the conservation of a particular species. Section 4(f) of the Act, as amended in 1988, requires that public notice and an opportunity for public review and comment be provided during recovery plan development. The Service will consider all information presented during a public comment period prior to approval of each new or revised recovery plan. The Service and other Federal agencies will also take these comments into account in the course of implementing recovery plans.

The document submitted for review is the Recovery Plan for the Rio Grande silvery minnow. Currently, the Rio Grande silvery minnow is believed to occur in a 280 km (174 mi) reach of the Rio Grande in New Mexico, from Cochiti Dam to the headwaters of Elephant Butte Reservoir. Its current habitat is limited to about 7 percent of its former range. The species was listed as federally endangered in 1994 (July 20, 1994, 59 FR 36988). Critical habitat was designated in 2003 (68 FR 8088). Throughout much of its historic range, the decline of the Rio Grande silvery minnow may be attributed in part to destruction and modification of its habitat due to dewatering and diversion of water, water impoundment, and modification of the river (channelization). Competition and predation by introduced non-native species, water quality degradation, and other factors may also have contributed to its decline.

The Recovery Plan includes scientific information about the species and provides criteria and actions needed to downlist and delist (recover) the species. Downlisting for the Rio Grande silvery minnow may be considered when three populations (including at least two that are self-sustaining) have been established within the historical range of the species and have been maintained for at least five years. Delisting of the species may be considered when three self-sustaining populations have been established within the historical range of the species and have been maintained for at least ten years. Recovery actions designed to achieve these criteria include: (1) Develop a thorough knowledge of the Rio Grande silvery minnow's life history, ecology, and behavior, and the current status of its habitat; (2) restore, protect, and alter habitats as necessary to alleviate threats to the Rio Grande silvery minnow; (3) ensure the survival of the Rio Grande silvery minnow in its current habitat and reestablish the species in suitable habitats within its historical range; (4) implement and maintain an adaptive management program so that appropriate research and management activities are implemented in a timely manner to achieve recovery of the Rio Grande silvery minnow; and (5) design and implement a public awareness and education program.

The original Rio Grande Silvery Minnow Recovery Plan was finalized in 1999. The draft revised Recovery Plan differs from the original plan by including: (1) A Tribal Perspectives document prepared by representatives of six Rio Grande Pueblos; (2) updated objective and measurable criteria for downlisting and delisting; and, (3) identification of how the plan's recovery criteria and recovery actions address the five listing factors and specific threats to the species.

The Recovery Plan is being submitted for review to all interested parties. Peer review will be conducted concurrent with public review. A peer review plan is posted on the Service's Southwest Region Web site, at: http://www.fws.gov/southwest/science/peerreview.html. After consideration of comments received during the public and peer review period, the Recovery Plan will be submitted for final approval.

Public Comments Solicited

The Service solicits written comments on the Recovery Plan described. All comments received by the date specified above will be considered prior to approval of the final Recovery Plan.

Authority

The authority for this action is Section 4(f) of the Endangered Species Act, 16 U.S.C. 1533(f).

Dated: November 9, 2006.
Christopher T. Jones,
Acting Regional Director, Region 2.

[FR Doc. E7-610 Filed 1-17-07; 8:45 am]

BILLING CODE 4310-55-P